COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add products to the Procurement List that will be furnished by the nonprofit agency employing persons who are blind or have other severe disabilities.

DATES: Comments Must Be Received On Or Before: 10/27/2014.

ADDRESSES: Committee for Purchase From People Who Are Blind or Severely Disabled, 1401 S. Clark Street, Suite 10800, Arlington, Virginia, 22202-4149.

For Further Information Or To Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entity of the Federal Government identified in this notice will be required to procure the products listed below from a nonprofit agency employing persons who are blind or have other severe disabilities.

The following products are proposed for addition to the Procurement List for production by the nonprofit agency listed:

Products

NSN: 8520-00-NIB-0149—Refill, Instant Hand Sanitizer, Foam, Advanced Green Certified, 1200 ml

NSN: 8520-00-NIB-0150—Refill, Instant Hand Sanitizer, Foam, Skin Nourishing, Advanced Green Certified, 1200 ml

NSN: 8520-00-NIB-0151—Refill, Hand Soap, Foam, Anti-Bacterial, Plum Fragrance, Purple, Advanced Green Certified, 1250 ml

NSN: 8520-00-NIB-0152—Refill, Hand Soap/Shower Wash, Foam, Ginger Fragrance, Green, Advanced Green Certified 1250 ml

NPA: Travis Association for the Blind, Austin, TX

Contracting Activity: General Services Administration, Fort Worth, TX

Coverage: B-List for the Broad Government Requirement as aggregated by the General Services Administration, Fort Worth, TX

Barry S. Lineback,
Director, Business Operations.

[FR Doc. 2014-22954 Filed 9-25-14; 8:45 am]

BILLING CODE 6353-01-P